DEPARTMENT OF THE INTERIOR

U.S. Geological Survey

[USGS—GX.11.LH00.COM00.00]

Agency Information Collections Activities; Comment Request for Uranium Concentrations in Private Wells in South-East New Hampshire

AGENCY: United States Geological Survey (USGS), Interior.

ACTION: Notice; request for comments for a new proposed information collection.

SUMMARY: We (the U.S. Geological Survey) will ask the Office of Management and Budget (OMB) to approve the new information collection (IC) described below. As required by the Paperwork Reduction Act of 1995 and as part of our continuing efforts to reduce paperwork and respondent burden, we invite the general public and other Federal agencies to take this opportunity to comment on this IC. The objectives of this information collection are to obtain information on water quality issues that affect private well owners. Please note that we may not conduct or sponsor, and a person is not required to respond to a collection of information unless it displays a currently valid OMB control number.

DATES: To ensure that we are able to consider your comments to this IC, we must receive them on or before October 11, 2011.

ADDRESSES: Please submit a copy of your written comments to the USGS Information Collection Clearance Officer, U.S. Geological Survey, 12201 Sunrise Valley Drive, Mail Stop 807, Reston, VA 20192 (mail); 703-648-7197 (phone); 703-648-6853 (fax); or cbartlett@usgs.gov (e-mail). Please reference Information Collection 1028-NEW, Uranium concentrations in private wells in south-east New Hampshire, in the subject line.

FOR FURTHER INFORMATION CONTACT: To request additional information about this IC, please contact the U.S. Geological Survey, Rudy Schuster, 2150-C Centre Avenue, Fort Collins, CO 80526 (mail); by telephone (970) 226-9165; or schusterr@usgs.gov (e-mail).

SUPPLEMENTARY INFORMATION:

I. Abstract

Uranium concentrations in groundwater that is used for private domestic drinking water are not well characterized in south-east New Hampshire. These water sources do not fall under any jurisdiction for testing and therefore private well owners generally do not know if uranium is present in their water supply. For example, concentrations 10 times greater than the drinking water standard that applies to public wells have been found in some private wells. The benefits associated with knowing if a well has high uranium in the water or if specific areas of the region have elevated levels is a value to the citizens that inhabit those areas. In most scenarios, approximately 40 percent of the population that utilize private wells in the study area have no option but to connect to public supply. The objectives of this survey are to obtain information on water quality issues that affect private well owners. The survey will gather information concerning: water uranium concentrations, use of wells that may contain uranium, and any systems in place to remove uranium, if present.

II. Data

OMB Control Number: 1028-NEW.

Title: Uranium concentrations in private wells in south-east New Hampshire.

Type of Request: This is a new collection.

Affected Public: Individuals who are using private wells for water supply. In conducting this research project; potential respondents will include: a random sampling of private well owners in south-east New Hampshire.

Respondent's Obligation: Voluntary.

Frequency of Collection: One time.

Estimated Annual Number of Respondents: 350.

Estimated Total Annual Responses: 350.

Estimated Time per Response: 10 minutes.

Estimated Total Annual Burden Hours: 58 hours.

III. Request for Comments

We invite comments concerning this IC on: (a) Whether the proposed collection of information is necessary for the agency to perform its duties, including whether the information will have practical utility; (b) the accuracy of the agency's estimate of the burden of the proposed collection of information; (c) ways to enhance the quality, usefulness, and clarity of the information to be collected; and (d) ways to minimize the burden on the respondents, including the use of automated collection techniques or other forms of information technology.

Please note comments that you submit in response to this notice are a matter of public record. Before including your address, phone number, e-mail address or other personal identifying information in your comment, you should be aware that your entire comment including your personal identifying information, may be made publically available at any time. While you can ask OMB in your comment to withhold your personal identifying information from public review, we cannot guarantee that will be done.

Dated July 27, 2011.
Keith Robinson,
Director NH-VT Water Science Center, U.S. Geological Survey.

[FR Doc. 2011-20108 Filed 8-8-11; 8:45 am]

BILLING CODE 4311-AM-P